Title 3—

The President

Proclamation 9360 of October 30, 2015

National Diabetes Month, 2015

By the President of the United States of America

A Proclamation

Approximately 1 out of every 11 Americans lives with diabetes. The seventh leading cause of death in the United States, diabetes is a serious condition that can lead to critical health issues such as heart disease, blindness, and kidney failure, and can sometimes require amputations of lower limbs. During National Diabetes Month, we recognize the impact diabetes has on people's lives, and we rededicate our talents, skills, and knowledge to preventing, treating, and curing it.

Type 1 diabetes often develops in youth and is a result of the body not producing enough insulin. Insulin treatment and keeping blood glucose levels as close to normal as possible can help people manage this disease. Type 2 diabetes—the most common form—affects people of all ages, though most frequently it is diagnosed in adults. However, type 2 diabetes has become increasingly prevalent among young people, largely due to increasing obesity rates. African Americans, Hispanic Americans, American Indians, and Asian Americans and Pacific Islanders are at particularly high risk of developing type 2 diabetes, as are people who are overweight and those who do not participate in regular physical activity. Taking diabetes medications as prescribed, getting plenty of regular exercise, eating healthily, and controlling blood pressure and cholesterol levels can help manage type 2 diabetes.

Some people may experience higher than normal glucose levels, though not at levels high enough to be called diabetes. Roughly 86 million Americans have this condition, known as prediabetes—and for these individuals the risk of developing type 2 diabetes can be mitigated with exercise, healthy eating, and weight loss. Gestational diabetes is another form of the disease, which can develop when a woman is pregnant. Women with a history of gestational diabetes are at greater risk of developing type 2 diabetes in the future. More information on diabetes, as well as actions people can take to prevent, treat, and manage it, can be found at www.NDEP.NIH.gov.

My Administration remains committed to supporting people living with diabetes and to finding a cure for all types of the disease. The Affordable Care Act now requires coverage of preventive services—such as diabetes screenings for those who have high blood pressure or are pregnant—at no additional cost. The law also ensures that individuals are not denied health coverage based on pre-existing conditions. Additionally, earlier this year I launched the Precision Medicine Initiative, an effort aimed at bringing us closer to a cure for diseases like diabetes by accelerating biomedical discoveries and providing clinicians with new tools and knowledge to select which treatments will work best for individual patients. In addition, through a comprehensive and sustained effort, the First Lady's Let's Move! initiative is working to put kids on a path to a healthier future by ensuring every family has access to healthy, affordable food, and by helping kids maintain an active lifestyle.

During National Diabetes Month, let us honor those we have lost to diabetes by pledging our full support for those currently living with it, and let us reinvigorate our resolve to find a cure. Together, by drawing on the inherent ingenuity and innovation of our people, we can advance the cause of treating this disease and safeguard the gift of a long, happy, and healthy life for all of America's daughters and sons.

NOW, THEREFORE, I, BARACK OBAMA, President of the United States of America, by virtue of the authority vested in me by the Constitution and the laws of the United States, do hereby proclaim November 2015 as National Diabetes Month. I call upon all Americans, school systems, government agencies, nonprofit organizations, health care providers, research institutions, and other interested groups to join in activities that raise diabetes awareness and help prevent, treat, and manage the disease.

IN WITNESS WHEREOF, I have hereunto set my hand this thirtieth day of October, in the year of our Lord two thousand fifteen, and of the Independence of the United States of America the two hundred and fortieth.

[FR Doc. 2015-28305

Filed 11-3-15; 11:15 am]

Billing code 3295-F6-P